OFFICE OF THE UNITED STATES TRADE REPRESENTATIVE

[Docket No. WTO/DS402]

WTO Dispute Settlement Proceeding Regarding United States—Use of Zeroing in Anti-Dumping Measures Involving Products From Korea

AGENCY: Office of the United States Trade Representative.

ACTION: Notice; request for comments.

SUMMARY: The Office of the United States Trade Representative (“USTR”) is providing notice that on April 8, 2010, received a request from the Republic of Korea (“Korea”) for the establishment of a dispute settlement panel under the Marrakesh Agreement Establishing the World Trade Organization (“WTO Agreement”) concerning certain issues relating to the imposition of antidumping measures on stainless steel plate in coils, stainless steel sheet and strip in coils, and diamond sawblades and parts thereof from Korea. That request may be found at http://www.wto.org in a document designated as WT/DS402/3. USTR invites written comments from the public concerning the issues raised in this dispute.

DATES: Although USTR will accept any comments received during the course of the dispute settlement proceedings, comments should be submitted on or before May 18, 2010, to be assured of timely consideration by USTR.

ADDRESSES: Public comments should be submitted electronically to http://www.regulations.gov, docket number USTR-2009-0040. If you are unable to provide submissions by http://www.regulations.gov, please contact Sandy McKinzy at (202) 395-9483 to arrange for an alternative method of transmission. If (as explained below) the comment contains confidential information, then the comment should be submitted by fax only to Sandy McKinzy at (202) 395-3640.

FOR FURTHER INFORMATION CONTACT: Leigh Bacon, Associate General Counsel, Office of the United States Trade Representative, 600 17th Street, NW., Washington, DC 20508, (202) 395-5859.

SUPPLEMENTARY INFORMATION: Section 127(b) of the Uruguay Round Agreements Act (URAA) (19 U.S.C. 2527(b)(1)) requires that notice and opportunity for comment be provided after the United States submits or receives a request for the establishment of a WTO dispute settlement panel. Consistent with this obligation, USTR is providing notice that Korea has requested the establishment of a dispute settlement panel pursuant to the WTO Understanding on Rules and Procedures Governing the Settlement of Disputes (“DSU”). If such a panel is established pursuant to the DSU, such panel, which would hold its meetings in Geneva, Switzerland, would be expected to issue a report on its findings and recommendations within nine months after it is established.

Major Issues Raised by Korea

In its request for establishment of a panel, Korea challenges the use by the U.S. Department of Commerce (“Commerce”) of what Korea describes as “the practice of `zeroing' negative dumping margins in calculating overall weighted average margins of dumping” in the final and amended final determinations in the investigation with respect to stainless steel plate in coils from Korea,¹ in the final and amended final determinations in the investigation with respect to stainless steel sheet and strip in coils from Korea,² and in the final and amended final determinations in the investigation with respect to diamond sawblades and parts thereof from Korea.³ Korea states that it considers these actions to be inconsistent with the obligations of the United States under Article 2.4.2 of the Agreement on Implementation of Article VI of the General Agreement on Tariffs and Trade 1994.

¹ See Notice of Final Determination of Sales at Less Than Fair Value: Stainless Steel Plate in Coils (“SSPC”) from the Republic of Korea, 64 FR 15444 (Mar. 31, 1999), as amended by Notice of Amendment of Final Determinations of Sales at Less Than Fair Value: Stainless Steel Plate in Coils From the Republic of Korea; and Stainless Steel Sheet and Strip in Coils From the Republic of Korea, 66 FR 45279 (Aug. 28, 2001); Certain Stainless Steel Plate From Belgium, Canada, Italy, Korea, South Africa, and Taiwan, 64 FR 25515 (May 12, 1999); Antidumping Duty Orders; Certain Stainless Steel Plate in Coils From Belgium, Canada, Italy, the Republic of Korea, South Africa, and Taiwan, 64 FR 27756 (May 21, 1999), as amended by Notice of Amended Antidumping Duty Orders: Certain Stainless Steel Plate in Coils From Belgium, Canada, Italy, the Republic of Korea, South Africa, and Taiwan, 68 FR 11520 (Mar. 11, 2003), as amended by Notice of Amended Antidumping Duty Orders: Certain Stainless Steel Plate in Coils From Belgium, Canada, Italy, the Republic of Korea, South Africa, and Taiwan, 68 FR 16117 (Apr. 2, 2003), and as amended by Notice of Correction to the Amended Antidumping Duty Orders: Certain Stainless Steel Plate in Coils From Belgium, Canada, Italy, the Republic of Korea, South Africa, and Taiwan, 68 FR 20114 (Apr. 24, 2003).

² See Notice of Final Determination of Sales at Less Than Fair Value: Stainless Steel Sheet and Strip in Coils From the Republic of Korea, 64 FR 30664 (June 8, 1999); Notice of Amendment of Final Determinations of Sales at Less Than Fair Value: Stainless Steel Plate in Coils From the Republic of Korea; and Stainless Steel Sheet and Strip in Coils From the Republic of Korea, 66 FR 45279 (Aug. 28, 2001); Certain Stainless Steel Sheet and Strip From France, Germany, Italy, Japan, the Republic of Korea, Mexico, Taiwan, and the United Kingdom, 64 FR 40896 (July 28, 1999); Notice of Antidumping Duty Order: Stainless Steel Sheet and Strip in Coils from United Kingdom, Taiwan and South Korea, 64 FR 40555 (July 27, 1999).

³ See Notice of Final Determination of Sales at Less Than Fair Value and Final Determination of Critical Circumstances: Diamond Sawblades and Parts Thereof from the Republic of Korea, 71 FR 29316 (May 22, 2006), as amended by Amended Final Determination of Sales at Less Than Fair Value: Diamond Sawblades and Parts Thereof From the Republic of Korea, 75 FR 14126 (Mar. 24, 2010); Diamond Sawblades and Parts Thereof from China and Korea, Inv. Nos. 731-TA-1092 and 1093 (Final) (Remand), USITC Pub. 4007 (May 2008), approved in Diamond Manufacturers Coalition v. United States, CIT Court No. 06-00247, 2009 Ct. Intl. Trade LEXIS 6, Slip-Op. 2009-5 (Jan. 13, 2009); Diamond Sawblades and Parts Thereof From the People's Republic of China and the Republic of Korea: Antidumping Duty Orders, 74 FR 57145 (Nov. 4, 2009).

Public Comment: Requirements for Submissions

Interested persons are invited to submit written comments concerning the issues raised in this dispute. Persons may submit public comments electronically to http://www.regulations.gov docket number USTR-2009-0040. If you are unable to provide submissions by http://www.regulations.gov, please contact Sandy McKinzy at (202) 395-9483 to arrange for an alternative method of transmission.

To submit comments via http://www.regulations.gov, enter docket number USTR-2009-0040 on the home page and click “search”. The site will provide a search-results page listing all documents associated with this docket. Find a reference to this notice by selecting “Notice” under “Document Type” on the left side of the search-results page, and click on the link entitled “Submit a Comment.” (For further information on using the http://www.regulations.gov Web site, please consult the resources provided on the Web site by clicking on “How to Use This Site” on the left side of the home page.)

The http://www.regulations.gov site provides the option of providing comments by filling in a “Type Comment and Upload File” field, or by attaching a document. It is expected that most comments will be provided in an attached document. If a document is attached, it is sufficient to type “See attached” in the “Type Comment and Upload File” field.

A person requesting that information contained in a comment submitted by that person be treated as confidential business information must certify that such information is business confidential and would not customarily be released to the public by the submitter. Confidential business information must be clearly designated as such and the submission must be marked “BUSINESS CONFIDENTIAL” at the top and bottom of the cover page and each succeeding page. Any comment containing business confidential information must be submitted by fax to Sandy McKinzy at (202) 395-3640. A non-confidential summary of the confidential information must be submitted to http://www.regulations.gov. The non-confidential summary will be placed in the docket and open to public inspection.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice.

Any comment containing confidential information must be submitted by fax. A non-confidential summary of the confidential information must be submitted to http://www.regulations.gov. The non-confidential summary will be placed in the docket and open to public inspection.

USTR will maintain a docket on this dispute settlement proceeding accessible to the public. The public file will include non-confidential comments received by USTR from the public with respect to the dispute. If a dispute settlement panel is convened or in the event of an appeal from such a panel, the U.S. submissions, any non-confidential submissions, or non-confidential summaries of submissions, received from other participants in the dispute, will be made available to the public on USTR's Web site at http://www.ustr.gov, and the report of the panel, and, if applicable, the report of the Appellate Body, will be available on the Web site of the World Trade Organization, http://www.wto.org.

Comments will be placed in the docket and open to public inspection pursuant to 15 CFR 2006.13, except confidential business information exempt from public inspection in accordance with 15 CFR 2006.15 or information determined by USTR to be confidential in accordance with 19 U.S.C. 2155(g)(2). Comments open to public inspection may be viewed on the http://www.regulations.gov Web site.

Steven F. Fabry,
Acting Assistant United States Trade Representative for Monitoring and Enforcement.

[FR Doc. 2010-9008 Filed 4-19-10; 8:45 am]

BILLING CODE 3190-W0-P